DEPARTMENT OF HEALTH AND HUMAN SERVICES

Centers for Disease Control and Prevention

[60Day-14-14KE]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to Leroy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

A Comprehensive Evaluation of a Paid Social Media and Mass Media Gynecologic Cancer Campaign—New—National Center for Chronic Disease Prevention and Health Promotion (NCCDPHP), Centers for Disease Control and Prevention (CDC).

Background and Brief Description

In 2006, Congress passed The Gynecologic Cancer Education and Awareness Act (Pub. L. 111-324, “Johanna's Law”) authorizing CDC to launch and evaluate a public health information campaign regarding gynecological cancers. The campaign, entitled “Inside Knowledge: Get the Facts About Gynecologic Cancer,” seeks to increase women's intentions to seek medical attention for persistent symptoms that could be indicative of some of gynecological cancers, yet may sometimes be ignored or simply overlooked by women. The campaign is managed by the Division of Cancer Prevention and Control (DCPC) at the Centers for Disease Control and Prevention (CDC).

CDC plans to evaluate the Inside Knowledge campaign by collecting information from members of its target audience: adult women (ages 40-65) in the United States. Information will be collected through self-administered, Web-based surveys. Survey items will include measures of audience recall of the campaign; perceptions of campaign messages; gynecologic health related knowledge, attitudes, and beliefs; intentions to seek care for symptoms associated gynecologic cancers; and sociodemographic characteristics. Specifically, this information collection will allow CDC to assess exposure to campaign efforts and assess whether women who were exposed to the campaign have higher awareness of the campaign, higher knowledge of gynecological cancers, and greater intentions to seek medical attention for gynecologic cancer symptoms and/or to discuss symptoms with their doctor. The evaluation will also examine whether women's awareness of the campaign differs by channel of delivery.

To conduct the evaluation, we will augment the national Inside Knowledge campaign with an additional paid media campaign in two cities. Cities will be selected based on the following criteria: (1) Incidence/prevalence of gynecologic cancer, (2) cost of mass media advertising, (3) size of the target audience in the city, (4) similarity in population size and demographics, and (5) previous Inside Knowledge campaign activities within the city. The two locations selected for this evaluation study will fall within the Nielsen 35-45 Designated Market Area (DMA) designations. The additional campaign advertising will include digital media and traditional media that will be implemented in flights, including the following: (1) A higher concentration in a defined time (“heavy up”) of traditional media only, (2) digital media only, and (3) a combination of a “heavy up” along with digital media. Each city will be non-randomly assigned to a condition, i.e., the type (traditional or digital) and sequence of additional advertisements. Evaluation information will be collected at four time points in each city (a baseline survey plus up to three additional surveys after each flight of additional media). To reduce attrition and eliminate time-in-sample bias that would artificially increase measures of campaign recognition, we will use address-based, cross-sectional sampling methods to randomly select respondents for each survey. The address-based sampling will also increase the likelihood that respondents live within the cities where the media campaigns are implemented. Potential respondents will receive an advance letter that describes the study and provides a link to the survey Web site. The total number of respondents in each study location is approximately 2,424.

Results of this evaluation study will be used to inform CDC, policymakers, prevention practitioners, researchers, and the general U.S. population about the reach and impact of the Inside Knowledge gynecologic health awareness campaign, and to inform the development and implementation of future health communication efforts.

OMB approval is requested for one year. The same survey instrument will be used for all information collection.

Participation is voluntary and there are no costs to respondents other than their time.

Estimated Annualized Burden Hours
Type of respondents | Form name | Number of respondents | Number of responses per respondent | Avgerage burden per response (in hr) | Total burden (in hr)
Women Ages 45-60 in City 1 | Women's Health Survey | 2,424 | 1 | 20/60 | 808
Women Ages 45-60 in City 2 | Women's Health Survey | 2,424 | 1 | 20/60 | 808
Total |  |  |  |  | 1,616

Leroy A. Richardson,
Chief, Information Collection Review Office, Office of Scientific Integrity, Office of the Associate Director for Science, Office of the Director, Centers for Disease Control and Prevention.

[FR Doc. 2014-04135 Filed 2-25-14; 8:45 am]

BILLING CODE 4163-18-P